ADVISORY COUNCIL ON HISTORIC PRESERVATION

Notice of Advisory Council on Historic Preservation Quarterly Business Meeting

AGENCY: Advisory Council on Historic Preservation.

ACTION: Notice of Advisory Council on Historic Preservation quarterly business meeting.

SUMMARY: Notice is hereby given that the Advisory Council on Historic Preservation (ACHP) will hold its next quarterly meeting on Thursday, November 14, 2013. The meeting will be held in Room SR325 at the Russell Senate Office Building at Constitution and Delaware Avenues NE., Washington, DC, starting at 8:30 a.m.

DATES: The quarterly meeting will take place on Thursday, November 14, 2013, starting at 8:30 a.m. EST.

ADDRESSES: The quarterly meeting will be held in Room SR325 at the Russell Senate Office Building at Constitution and Delaware Avenues NE., Washington, DC.

FOR FURTHER INFORMATION CONTACT: Cindy Bienvenue, 202-606-8521, cbienvenue@achp.gov.

SUPPLEMENTARY INFORMATION: The Advisory Council on Historic Preservation (ACHP) is an independent federal agency that promotes the preservation, enhancement, and productive use of our nation's historic resources, and advises the President and Congress on national historic preservation policy. The goal of the National Historic Preservation Act (NHPA), which established the ACHP in 1966, is to have federal agencies act as responsible stewards of our nation's resources when their actions affect historic properties. The ACHP is the only entity with the legal responsibility to encourage federal agencies to factor historic preservation into federal project requirements. For more information on the ACHP, please visit our Web site at www.achp.gov.

The agenda for the upcoming quarterly meeting of the ACHP is the following:

Call to Order—8:30 a.m.

I. Chairman's Welcome

II. Swearing In Ceremony

III. Chairman's Award

IV. Chairman's Report

V. Historic Preservation Policy and Programs

A. Building a More Inclusive Preservation Program

1. Session at Congressional Black Caucus Foundation Annual Conference

B. Working with Indian Tribes

1. White House Tribal Nations Conference

2. White House Council on Native American Affairs

C. Preserve America at 10: Future Directions

D. Planning for 50th Anniversary of the National Historic Preservation Act

E. Rightsizing Task Force Report

F. Sustainability and Department of Defense Historic Buildings

G. ACHP Legislative Agenda

1. Amendments to the National Historic Preservation Act

2. Recent Legislation Related to Historic Preservation

VI. Section 106 Issues

A. Hardest Hit Fund and Historic Preservation

B. The ACHP and the Federal Real Property Council

C. Presidential Memoranda on Infrastructure Permitting and Transmission

D. Proposed Northern Plains Energy Summit

E. Federal Communications Commission Program Alternative

VII. ACHP Management Issues

A. ACHP FY 2014 and 2015 Budget

B. Alumni Foundation Report

C. ACHP Office Relocation Update

VIII. New Business

A. District of Columbia Height Master Plan

IX. Adjourn

The meetings of the ACHP are open to the public. If you need special accommodations due to a disability, please contact Cindy Bienvenue, 202-606-8521, prior to the meeting.

Authority: 16 U.S.C. 470j.

Dated: November 5, 2013.
Javier E. Marques,
Associate General Counsel.

[FR Doc. 2013-26887 Filed 11-7-13; 8:45 am]

BILLING CODE 4310-K6-P